DEPARTMENT OF TRANSPORTATION

Federal Railroad Administration

[Docket Number FRA-2013-0144]

Notice of Application for Approval of Discontinuance or Modification of a Railroad Signal System

In accordance with Part 235 of Title 49 Code of Federal Regulations and 49 U.S.C. 20502(a), this document provides the public notice that by a document dated November 25, 2013, Buffalo & Pittsburgh Railroad (BPRR) and Norfolk Southern Railway (NS) jointly petitioned the Federal Railroad Administration (FRA) seeking approval for the discontinuance or modification of a signal system. FRA assigned the petition Docket Number FRA-2013-0144.

Applicants:

Buffalo & Pittsburgh Railroad, Mr. Raymond A. Goss, Senior Vice President, Northeast Region, Genesee & Wyoming, 400 Meridian Centre, Suite 330, Rochester, NY 14618.

Norfolk Southern Corporation, Mr. Brian Sykes, Chief Engineer C&S Engineering, 1200 Peachtree Street NE., Atlanta, GA 30309.

BPRR and NS jointly seek approval of the proposed discontinuance of the traffic control system (TCS) on the main track and controlled siding between West Seneca, NY, Milepost (MP) BR 8.8, and Machias, NY, MP 44.7, on the Machias Subdivision. Controlled signals at Control Points (CP) Machias (MP 44.5), CP Perry (MP 25.0), and CP Wales (MP 22.0) will be discontinued. Intermediate signals #12, #15, #18, #27, #33, #37, and #40 will be discontinued. Power-operated switches at CPs will be converted to hand operation. Derails will be installed at the end of the siding at CP Wales and CP Perry. BPRR will maintain an approach signal to CP Gravity (MP 10.5).

The reasons given for the proposed changes are to improve the efficiency of operation, that the TCS is no longer needed due to reduced train traffic, and that there are no longer opposing moves or fleeted traffic with following moves.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 28, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-02868 Filed 2-10-14; 8:45 am]

BILLING CODE 4910-06-P